DEPARTMENT OF JUSTICE

National Institute of Corrections

Solicitation for a Cooperative Agreement—Transition From Jail to the Community (TJC)

AGENCY: National Institute of Corrections, U.S. Department of Justice.

ACTION: Solicitation for a Cooperative Agreement.

SUMMARY: The National Institute of Corrections (NIC) is soliciting proposals from organizations, groups, or individuals interested in entering into a 30-month cooperative agreement to assist at least two California counties with the implementation of the “Transition from Jail to Community” (TJC) model in response to California's Assembly Bill (AB) 109 realignment.

DATES: Applications must be received by 4 p.m. EDT on Friday, July 27, 2012.

ADDRESSES: Mailed applications must be sent to: Director, National Institute of Corrections, 320 First Street NW., Room 5002, Washington, DC 20534. Applicants are encouraged to use Federal Express, UPS, or similar service to ensure delivery by the due date. Hand delivered applications should be brought to 500 First Street NW., Washington, DC 20534. At the front desk, dial 7-3106, extension 0 for pickup.

Faxed applications will not be accepted. Electronic applications can be submitted via http://www.grants.gov.

FOR FURTHER INFORMATION CONTACT: All technical or programmatic questions concerning this announcement should be directed to P. Elizabeth Taylor, Correctional Program Specialist, National Institute of Corrections. You may reach her by phone at 800-995-6423 extension 3-9354 or by email at petaylor@bop.gov. In addition to the direct reply, all questions and responses will be posted on NIC's Web site at www.nicic.gov for public review (the names of those submitting questions will not be posted). The Web site will be updated regularly and postings will remain on the Web site until the closing date of this cooperative agreement solicitation. Only questions received by 4 p.m. EDT on Friday, July 20, 2012 will be answered and posted on the NIC Web site.

SUPPLEMENTARY INFORMATION: Overview: Jail populations comprise accused, convicted but un-sentenced, and sentenced individuals, including those with holds for agencies like parole, probation, and immigration. It is a population of individuals who often also appear on the rosters of other agencies providing services for mental health, substance abuse, homelessness, unemployment, social services, and a variety of medical and public health concerns. Upon release, it is extremely likely that these individuals will remain in the community where the jail is located. Recent changes in California will result in many persons serving their entire sentence in local jails when in the past they would have been in state prison. Therefore, it is in the community's interest that the needs and challenges facing individuals in jail be addressed effectively and that ultimate responsibility for their behavior rests not just with the jail but with the community and its agencies in general.

While the safety and security of staff and confined individuals must always be the paramount responsibility of jail administrators, transition or reentry is not an issue that jail administrators can or should address exclusively. Partnering with community resource providers and expertise outside the jail dramatically increases opportunities for success once individuals are released. Some communities include pretrial diversion and/or release as important components of transition/reentry strategies. Effective transition relies on collaboration with public human services agencies, nonprofit and faith-based organizations, assessment of risk and need, and the use of evidence-based practices to guide targeted case planning. NIC recognizes that its resources permit direct assistance to only a very few jurisdictions. Therefore, products from the implementation of the TJC model in a California jurisdiction will be developed to share with other jails and communities for their future consideration and use.

Background: NIC began funding a Transition from Prison to the Community (TPC) initiative during Fiscal Year 2000. The NIC TJC Transition/Reentry Model was developed in 2007 and provided assistance to six jurisdictions in phase 1 of its multi-phase program. In May 2012, NIC requested applications for a second set of six jurisdictions, and it is anticipated that site selection will be completed by July 30, 2012. This initiative focuses specifically on TJC implementation in at least two California jurisdictions and includes the following objectives: (1) To assist with the execution of the California realignment process (AB 109), (2) To identify lessons that selected California jails can share specifically with other counties in the state, and (3) To provide more general information about TJC for a nationwide audience.

TPC/TJC History

Six jurisdictions received assistance during the Phase 1 award period: Orange County, CA; Denver County, CO; Kent County, MI; LaCrosse County, WI; Davidson County, TN; and Douglas County, KS. Phase 1 started with the provider convening a national advisory group and building an effective TJC model that incorporates NIC suggested correctional practices like risk assessment at admission; implementation of evidence-based practices targeting the higher risk offenders; and strategic collaboration among criminal justice agencies, other local agencies, and nongovernmental community groups for the purpose of public safety (thus reducing the likelihood of released individuals subsequently committing a crime in the community). In addition to providing quality direct technical assistance, NIC funded the development of tools and products for use by non-participating jurisdictions so that it might share with others those lessons learned from the participating sites. NIC also funded the development of the TJC Tool Kit, an online resource, and began using WebEx as a technical assistance tool for maintaining project momentum without requiring as many costly trips to sites. NIC will soon select a second set of six jurisdictions from around the country—TJC Phase 2 sites—and will focus this current award specifically on at least two California jurisdictions.

Purpose: Applicants will submit a proposal designed to achieve and complete the following:

Scope of Work: The overall goal of Transition from Jail to the Community (TJC) is to improve public safety and reintegration outcomes for exiting jail inmates. Specifically, TJC seeks to (1) improve public safety by reducing the threat of harm to persons and property from individuals released from local jails to their home communities and (2) increase successful integration outcomes for persons newly released, focusing on areas like employment retention, sobriety, reduced homelessness, improved health, and family connectedness.

Applicants must discuss the context and implications of this project goal in the current environment, and they must specifically describe how they will achieve each of the eight objectives that follow. Also included in the application must be a discussion about a proposed selection process for project sites (with participation by NIC), a description of project staff, milestones and projected timelines, and other elements that speak to their organizational capacity to manage this initiative.

Objective 1—The awardee will be responsible for helping the California sites achieve the TJC goal of developing a systems change process involving collaborative strategic planning. Other core components include (1) Collaboration and joint ownership; (2) local strategic planning; (3) “reentry for all,” where no group in the jail is automatically excluded from the TJC approach; (4) continuity of care in multiple service areas; (5) evidence-based practices, where programs and processes are based on the body of evidence regarding effective practice; and (6) data-driven decisionmaking and self-evaluation.

Objective 2—Provide strategically focused technical assistance, both in person onsite and remotely by efficient use of distance technology. NIC can provide access as needed to its WebEx resource.

Objective 3—Develop an evaluation component of the TJC initiative to (1) enhance local capacity for self-evaluation through the provision of evaluation-related technical assistance and (2) document implementation of the TJC model in learning sites. A related objective of the implementation evaluation is to measure evidence of systems change in each community (i.e., the extent to which implementation of the TJC model changed “business as usual” in these communities, including how and for whom).

Objective 4—Create tools for the field. Part of the intent of the TJC initiative is to inform jail-to-community transition practice beyond the learning sites through two primary activities: (1) Development and dissemination of tools to local jurisdictions interested in improving their jail transition work and (2) obtaining and disseminating results of the implementation and systems change evaluations. A primary vehicle for the dissemination of TJC concepts and tools to the field is the NIC Web site. Project team members may speak at conferences and workshops and publish articles. In addition, the awardee should develop end-of-project practitioner-oriented briefs.

Objective 5—Pretrial system enhancements: Assess/reassess the TJC model to determine whether and how it should be strengthened with regard to pretrial strategies, polices, tools, and expectations. The awardee should include relevant change strategies as part of the overall technical assistance effort.

Objective 6—Assist at least two California county partnership teams with implementation of the NIC's TJC Model. The history and context for NIC's Transition from Prison to Community (TPC) and Transition from Jail to Community (TJC) initiatives are reflected in materials presented at http://nicic.gov/TPJC. The TJC Online Learning Toolkit (http://nicic.gov/TJCToolkit2) also draws on the implementation experiences of the six first round learning sites. The Web page and links combined with material from the toolkit's nine modules include information, tools, and resources associated with implementing all the elements of the TJC model. This is NIC's model that selected sites will implement in the AB 109-influenced California counties. It is also the portion of project activity that demands the preponderance of time, attention, and resource.

Objective 7—Facilitate a forum for other California counties. There will be much interest in what participating jurisdictions are learning that may have relevance elsewhere in the state. Therefore, a second-level priority is a requirement that the awardee work with NIC to develop a forum to share lessons learned with other California counties. Applicants must explain the details of their proposed strategies, approach, and approximate resource demand.

Objective 8—Responding to nationwide interest. There will be significant interest from around the country about how effective TJC will be in the AB 109 environment. As the lowest priority consuming the smallest funding commitment, the awardee will disseminate information on a national level to practitioners, stakeholders, and policymakers interested in program outcomes. Applicants must explain the details of their proposed strategies, approach, and approximate resource demand.

Specific Requirements: Documents or other media that are produced under this award must follow these guidelines: Prior to the preparation of the final draft of any document or other media, the awardee must consult with NIC's writer/editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on the NIC Web site at www.nicic.gov/cooperativeagreements. In addition, awardees should adhere to NIC's recommendations for plain language writing, which is available on the NIC Web site at www.nicic.gov/plainlanguage.

All final documents and other media submitted for posting on the NIC Web site must meet the federal government's requirement for accessibility (e.g., 508 PDF or HTML file). The awardee must provide descriptive text interpreting all graphics, photos, graphs, and/or multimedia to be included with or distributed alongside the materials and must provide transcripts for all applicable audio/visual works.

Application Requirements: Applications should be concisely written, typed double spaced and reference the project by the “NIC Opportunity Number” and title in this announcement. The package must include: a cover letter that identifies the audit agency responsible for the applicant's financial accounts as well as the audit period or fiscal year that the applicant operates under (e.g., July 1 through June 30); a program narrative (not to exceed 12 pages) in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Applications may be submitted in hard copy, or electronically via http://www.grants.gov. If submitted in hard copy, there needs to be an original and three copies of the full proposal (program and budget narratives, application forms and assurances). The original should have the applicant's signature in blue ink.

Authority: Pub. L. 93-415.

Funds Available: NIC is seeking the applicant's best ideas regarding accomplishment of the scope of work and the related costs for achieving the goals of this solicitation. Funds may be used only for the activities that are linked to the desired outcome of the project. The amount of the award will not exceed $450,000.

This project will be a collaborative venture with the Community Services Division of NIC.

Eligibility of Applicants: An eligible applicant is any public or private agency, educational institution, organization, individual, or team with expertise in the described areas.

Review Considerations: Applications received under this announcement will be subject to the NIC Review Process. Applications considered unresponsive will be disqualified. The criteria for the evaluation of each application will be as follows:

Programmatic (60%)

Is there demonstrated knowledge of NIC's Transition from Jail to Community Initiative? Is there demonstrated knowledge of techniques and/or interventions that successfully address offender transition/reentry issues? Is there demonstrated knowledge and/or experience with strategic planning and/or systems' change processes? Is there demonstrated knowledge of data-driven decisionmaking and self-evaluation? Are project goals/objectives adequately discussed? Is there a clear statement of how project goals will be accomplished, including major objectives that will lead to achieving the goal, the strategies to be employed, required staffing, and other required resources? Are there any innovative approaches, techniques, or design aspects proposed that will enhance the project?

Organizational (20%)

Do the skills, knowledge, and expertise of the organization and the proposed project staff demonstrate a high level of competency to complete the objectives? Does the applicant/organization have the necessary experience and organizational capacity to complete all the goals of the project? Are the proposed project management and staffing plans realistic and sufficient to complete the project within the 12-month time frame?

Project Management/Administration (20%)

Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.bpn.gov/ccr. A CCR Handbook and worksheet can also be reviewed at the Web site.

Number of Awards: One.

NIC Opportunity Number: 12CS16. This number should appear as a reference line in the cover letter, where indicated on Standard Form 424, and outside of the envelope in which the application is sent.

Catalog of Federal Domestic Assistance Number: 16.603.

Executive Order 12372: This program is subject to the provisions of Executive Order 12372. E.O. 12372 allows states the option of setting up a system for reviewing applications from within their states for assistance under certain Federal programs. Applicants (other than Federally-recognized Indian tribal governments) should contact their State Single Point of Contact (SPOC), a list of which can be found at http://www.whitehouse.gov/omb/grants_spoc.

Morris L. Thigpen,
Director, National Institute of Corrections.

[FR Doc. 2012-17192 Filed 7-13-12; 8:45 am]

BILLING CODE 4410-36-P